DEPARTMENT OF COMMERCE

National Institute of Standards and Technology, National Telecommunications and Information Administration

IPv6 Public Meeting

AGENCY: National Institute of Standards and Technology, National Telecommunications and Information Administration, U.S. Department of Commerce

ACTION: Notice of Public Meeting

SUMMARY: The National Institute of Standards and Technology (NIST) and the National Telecommunications and Information Administration (NTIA), U.S. Department of Commerce, will host a half-day public meeting on Internet Protocol version 6 (IPv6), entitled “IPv6 Public Meeting.” The meeting will provide an opportunity for interested parties to discuss IPv6 deployment issues, including the appropriate government role, if any, in IPv6 deployment.

DATES: The IPv6 Public Meeting will be held from 9:00 a.m. to 1:30 p.m. on Wednesday, July 28, 2004.

ADDRESSES: The public meeting will be held at the U.S. Department of Commerce, 1401 Constitution Avenue, N.W., Room 4830, Washington, D.C. (Entrance to the Department of Commerce is on 14th Street between Constitution and Pennsylvania Avenues, N.W.)

FOR FURTHER INFORMATION CONTACT: Alfred Lee, Office of Policy Analysis and Development, NTIA, at (202) 482-1880, or via electronic mail: alee@ntia.doc.gov. Please direct media inquiries to the Office of Public Affairs, NTIA, at (202) 482-7002.

SUPPLEMENTARY INFORMATION: The Internet Protocol (IP) is a technical standard that enables computers and other devices to communicate with each other over networks, many of which interconnect to form the Internet. By providing a common format for the transmission of information across the Internet, IP facilitates communication among a variety of disparate networks and devices. This ability to communicate with a single, widely accepted format has been a key to the rapid growth and success of the Internet.

The current generation of IP, version 4 (IPv4), has been in use for more than twenty years, and has supported the Internet's phenomenal growth over the last decade. A variety of stakeholders, through the guiding efforts of the Internet Engineering Task Force (IETF), have developed a new version of IP, known as IPv6. IPv6 has several advantages over IPv4, including the availability of many more Internet addresses and additional user features and applications. IPv6 has also been designed to provide other features and capabilities, such as improved support for hierarchical addressing, a simplified header format, improved support for options and extensions, additional auto-configuration and reconfiguration features, and native security features.

In light of the potential benefits of IPv6, especially the security implications, the President's National Strategy to Secure Cyberspace directed the Secretary of Commerce to: “[F]orm a task force to examine the issues related to IPv6, including the appropriate role of government, international interoperability, security in transition, and costs and benefits. The task force will solicit input from potentially impacted industry segments.”¹

¹ The National Strategy to Secure Cyberspace, A/R 2-3, at 30 (Feb. 2003), http://www.whitehouse.gov/pcipb/cyberspace_strategy.pdf.

In response, the Department of Commerce formed a task force to study IPv6 and to prepare a report of its findings and recommendations. The IPv6 Task Force is co-chaired by the Administrator of NTIA and the Acting Director of NIST and consists of staff from these two agencies.

The IPv6 Task Force is in the process of compiling information from a variety of sources, including a request for comments issued in January of this year and survey research.² This public meeting is an important part of that process. The public meeting will have two panels. The first panel will address the costs and benefits of IPv6, security in transition, interoperability and other deployment issues. The second panel will address the appropriate role of government, if any, in deploying IPv6. Panelists will include scientists, technical experts, policy analysts, business leaders, and government officials.

² See NIST, NTIA, Request for Comments on Deployment of Internet Protocol, Version 6, 69 Fed. Reg. 2890 (2004). Comments received in response are available on NTIA's web site at http://www.ntia.doc.gov/ntiahome/ntiageneral/ipv6/commentsindex.html.

NTIA will post an IPv6 Task Force discussion draft entitled, “Technical and Economic Assessment of Internet Protocol Version 6 (IPv6),” on NTIA's Web site at http://www.ntia.doc.gov/ntiahome/ntiageneral/ipv6/index.html prior to the IPv6 Public Meeting to facilitate discussion of IPv6 issues by interested parties. To obtain a printed copy of the discussion draft (1) write to NTIA, Room 4725, U.S. Department of Commerce, 1401 Constitution Avenue, N.W., Washington, DC 20230; (2) send an email to alee@ntia.doc.gov; (3) telephone (202) 482-1880; or (4) fax a request to (202) 482-6173.

Public Participation

The public meeting will be open to the public and press on a first-come, first-served basis. Space is limited. Due to security requirements and to facilitate entry to the Department of Commerce building, attendees must present photo identification and/or a U.S. Government building pass, if applicable, and should arrive at least one-half hour ahead of the panel sessions. The public meeting is physically accessible to people with disabilities. Any member of the public wishing to attend and requiring special services, such as sign language interpretation or other ancillary aids, should contact Alfred Lee at (202) 482-1880 or alee@ntia.doc.gov at least three (3) days prior to the meeting.

Dated: July 9, 2004.
Milton Brown
Acting Chief Counsel, National Telecommunications and Information Administration.

[FR Doc. 04-16019 Filed 7-14-04; 8:45 am]

BILLING CODE 3510-60-S